DEPARTMENT OF COMMERCE

National Oceanic and Atmospheric Administration

50 CFR Part 622

[Docket No. 090205130-9132-01]

RIN 0648-AX55

Fisheries of the Caribbean, Gulf of Mexico, and South Atlantic; Commercial Golden Tilefish Segment of the Snapper-Grouper Fishery off the Southern Atlantic States; Control Date

AGENCY: National Marine Fisheries Service (NMFS), National Oceanic and Atmospheric Administration (NOAA), Commerce.

ACTION: Advanced notice of proposed rulemaking; consideration of a control date.

SUMMARY: NMFS announces that it is establishing a new control date to control future access to the commercial golden tilefish fishery operating in the exclusive economic zone (EEZ) of the South Atlantic. If changes to the management regime are developed and implemented under the Magnuson-Stevens Fishery Conservation and Management Act (Magnuson-Stevens Act), a control date could be used to limit the number of participants in the fishery. This announcement is intended, in part, to promote awareness of the potential eligibility criteria for future access so as to discourage speculative entry into the fishery while the South Atlantic Fishery Management Council (Council) and NMFS consider whether and how access to the golden tilefish fishery should be controlled.

DATES: Written comments must be received on or before 5 p.m., eastern time, March 23, 2009.

ADDRESSES: You may submit comments, identified by 0648-AX55, by any one of the following methods:

• Electronic Submissions: Submit all electronic public comments via the Federal eRulemaking Portal http://www.regulations.gov.

• Fax: Attn: Nikhil Mehta 727-824-5308.

• Mail: Nikhil Mehta, NMFS Southeast Regional Office, Sustainable Fisheries Division, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). Attachments to electronic comments will be accepted in Microsoft Word, Excel, WordPerfect, or Adobe PDF file formats only.

FOR FURTHER INFORMATION CONTACT: Kim Iverson, Public Information Officer, South Atlantic Fishery Management Council; toll free 1-866-SAFMC-10 or 843-571-4366; kim.iverson@safmc.net.

SUPPLEMENTARY INFORMATION: At the December 2008 Council meeting, the Council recommended a new control date of December 4, 2008, for the commercial golden tilefish segment of the snapper-grouper fishery. The control date would apply to persons who are contemplating entering the commercial golden tilefish fishery in the EEZ of the South Atlantic region. The Council requested that this control date be published in the Federal Register to notify fishermen that if they enter such a fishery after December 4, 2008, they may not be assured of future access if the Council and/or NMFS decide to limit entry or impose other measures to manage this segment of the snapper-grouper fishery. A control date of October 14, 2005 (70 FR 60058), was previously established for the snapper-grouper fishery and would remain unchanged.

Establishment of the new control date for the commercial golden tilefish segment of the snapper-grouper fishery would allow the Council to evaluate the level of participation in this segment of the snapper-grouper fishery and address any level of overcapacity. Control dates are intended to discourage speculative entry into a fishery, as new entrants entering the fishery after the control date are forewarned that they are not guaranteed future participation in the fishery.

Establishment of this control date does not commit the Council or NMFS to any particular management regime or criteria for entry into the commercial golden tilefish fishery. Fishermen are not guaranteed future participation in the fishery regardless of their level of participation before or after the control date. The Council may recommend a different control date or it may recommend a management regime that does not involve a control date. Other criteria, such as documentation of landings or fishing effort, may be used to determine eligibility for participation in a limited access fishery. The Council and/or NMFS also may choose to take no further action to control entry or access to the fisheries, in which case the control date may be rescinded. Any action by the Council will be taken pursuant to the requirements for fishery management plan and amendment development established under the Magnuson-Stevens Act.

This notification also gives the public notice that interested participants should locate and preserve records that substantiate and verify their participation in the commercial golden tilefish fishery in the South Atlantic EEZ.

Authority: 16 U.S.C. 1801 et seq.

Dated: February 11, 2009
James W. Balsiger,
Acting Assistant Administrator For Fisheries, National Marine Fisheries Service.

[FR Doc. E9-3607 Filed 2-19-09; 8:45 am]

BILLING CODE 3510-22-S